DEPARTMENT OF AGRICULTURE

Animal and Plant Health Inspection Service

[Docket No. 98-035-4]

Importation of Phalaenopsis spp. From Taiwan in Growing Media; Availability of Environmental Assessment and Request for Comments

AGENCY: Animal and Plant Health Inspection Service, USDA.

ACTION: Notice of reopening and extension of comment period.

SUMMARY: We are reopening and extending the comment period for an environmental assessment for a proposal to allow orchids of the genus Phalaenopsis to be imported from Taiwan in approved growing media. This action will allow interested persons additional time to prepare and submit comments.

DATES: We will consider all comments that we receive on or before July 9, 2003.

ADDRESSES: You may submit comments by postal mail/commercial delivery or by e-mail. If you use postal mail/commercial delivery, please send four copies of your comment (an original and three copies) to: Docket No. 98-035-3, Regulatory Analysis and Development, PPD, APHIS, Station 3C71, 4700 River Road Unit 118, Riverdale, MD 20737-1238. Please state that your comment refers to Docket No. 98-035-3. If you use e-mail, address your comment to regulations@aphis.usda.gov. Your comment must be contained in the body of your message; do not send attached files. Please include your name and address in your message and “Docket No. 98-035-3” on the subject line.

You may read any comments that we receive on this environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. William Thomas, Import Specialist, Phytosanitary Issues Management, PPQ, APHIS, 4700 River Road Unit 140, Riverdale, MD 20737-1236; (301) 734-6799.

SUPPLEMENTARY INFORMATION:

Background

On September 1, 1998, we published in the Federal Register (63 FR 46403-46406, Docket No. 98-035-1) a proposal to amend the regulations in 7 CFR 319.37-8 to add orchids of the genus Phalaenopsis to the list of plants that may be imported from all areas of the world in an approved growing medium subject to specified growing, inspection, and certification requirements. We accepted comments on our proposal for a total of 90 days, ending December 1, 1998.¹

¹ The comment period on the proposed rule was extended from 60 to 90 days in a notice published in the Federal Register on October 29, 1998 (63 FR 57932).

In response to comments received on the proposed rule, APHIS narrowed the application of the rule to Phalaenopsis spp. from Taiwan only and entered into informal section 7 consultation with the U.S. Fish and Wildlife Service (FWS) to assess the potential effects of the proposed action on endangered or threatened species, as required under the Endangered Species Act. On April 7, 2003, FWS concluded the section 7 consultation process by concurring with APHIS's determination that the importation of Phalaenopsis spp. from Taiwan in growing media will not adversely affect federally listed or proposed endangered or threatened species or their habitats.

Upon receiving concurrence from FWS, APHIS prepared an environmental assessment in accordance with: (1) The National Environmental Policy Act of 1969, as amended (NEPA) (42 U.S.C. 4321 et seq.), (2) regulations of the Council on Environmental Quality for implementing the procedural provisions of NEPA (40 CFR parts 1500-1508), (3) USDA regulations implementing NEPA (7 CFR part 1b), and (4) APHIS” NEPA Implementing Procedures (7 CFR part 372).

On May 9, 2003, we published in the Federal Register (68 FR 24915, Docket No. 98-035-3) a notice announcing the availability of the environmental assessment. In that notice, we requested public comments on the environmental assessment, which is titled “Proposed Rule for the Importation of Moth Orchids (Phalaenopsis spp.) in Growing Media From the Republic of China (Taiwan)” and dated April 2003.

Comments on the environmental assessment were required to be received on or before June 9, 2003. We are reopening and extending the comment period on Docket No. 98-035-3 until July 9, 2003. This action will allow interested persons additional time to prepare and submit comments. We will also consider all comments received between June 9, 2003 (the day after the close of the original comment period) and the date of this notice.

Please note that on June 4, 2003, we made a correction to the version of the environmental assessment that had been posted on our website since May 9, 2003. This correction involved removing references to a specific document (U.S. Department of Agriculture, Animal and Plant Health Inspection Service, Policy Analysis and Development. 2002. PAD Response to Public Comments on NPR in Docket 98-035-1, 8 pp.) and replacing them with references to a personal communication. This correction has no substantive bearing on the environmental assessment, and is reflected in the version currently posted on APHIS's website.

The environmental assessment may be viewed on the Internet at http://www.aphis.usda.gov/ppd/es/ppqdocs.html. You may request paper copies of the environmental assessment from the person listed under FOR FURTHER INFORMATION CONTACT. Please refer to the title of the environmental assessment when requesting copies. The environmental assessment is also available for review in our reading room (the location and hours of the reading room are listed under the heading ADDRESSES at the beginning of this notice).

Done in Washington, DC, this 5th day of June 2003.
Peter Fernandez,
Acting Administrator, Animal and Plant Health Inspection Service.

[FR Doc. 03-14722 Filed 6-10-03; 8:45 am]

BILLING CODE 3410-34-P